DEPARTMENT OF ENERGY

Federal Energy Regulatory Commission

[Docket No. MS083107]

Notice Announcing Combined Notice of Gas Rate Filings

August 31, 2007.

Effective August 31, 2007, the Federal Energy Regulatory Commission (FERC or Commission) will issue notices of natural gas: (1) Rate filings/applications, (2) refund reports, (3) compliance filing and (4) waiver requests (collectively, natural gas filings) using the RP docket number prefix through its Combined Notice of Filings method, already in place for most electric rate filings.

As of this date, the Secretary of the Commission is making the following changes to the filing procedures for natural gas filings:

1. Filers are no longer required to include a draft form of notice or diskette containing that form of notice for any RP-docketed application, compliance filing, refund report, or waiver request.

2. Filers requesting a shortened comment period for the filing must clearly state such request in the title or heading for the filing. For example:

Re: (Name of Natural Gas Pipeline)

Docket No. RP07-___

(Title/Description) and Request for shortened comment period

The notices issued under this method for RP dockets will be added to eLibrary and published in the Federal Register under the name “Combined Notice of Filings.” These notices will list natural gas filings added to eLibrary since publication of the last notice. Each filing will be listed with its identifying details as follows:

Name of Applicant(s)—This item will show the applicant name as it appears on the filing.

Docket Number—This item will contain a hyperlink to the eLibrary docket sheet for the docket number.

Description—This item will contain a brief description of the filing and a hyperlink that will open an image version of the filed document in eLibrary.

Filing Date—This item will show the date on which the document was filed with the Commission.

Accession Number—This item will contain a hyperlink that will open the document “Info” area of eLibrary for the filed document.

Comment Date—This item will indicate the comment deadline for the filing.

The Commission first announced the new “Combined Notice of Filings” during the April 13, 2004 Open Commission Meeting. By this initiative, the Commission seeks to simplify the manner in which the Commission's staff prepares notices and thereby expedite the public issuance of notices. Consolidating notices in this manner also reduces the cost of publishing the notices in the Federal Register.

Kimberly D. Bose,
Secretary.

[FR Doc. E7-17926 Filed 9-11-07; 8:45 am]

BILLING CODE 6717-01-P